DEPARTMENT OF ENERGY

Federal Energy Regulatory Commission

[Docket Nos. RP01-623-003 and RP01-622-002 (Not Consolidated)]

Mississippi River Transmission Corporation; Notice of Compliance Filing

March 7, 2002.

Take notice that on March 4, 2002, Mississippi River Transmission Corporation (MRT) tendered for filing as part of its FERC Gas Tariff, Third Revised Volume No. 1, the following revised tariff sheets to be effective April 1, 2002:

Eighth Revised Sheet No. 2

Forty-Fifth Revised Sheet No. 5

Forty-Fifth Revised Sheet No. 6

Forty-Second Revised Sheet No. 7

Seventeenth Revised Sheet No. 8

Sixth Revised Sheet No. 11

Fifth Revised Sheet No. 21

Fourth Revised Sheet No. 28

Fourth Revised Sheet No. 33

Second Revised Sheet No. 44

First Revised Sheet No. 56

Sixth Revised Sheet No. 71

Seventh Revised Sheet No. 74

Second Revised Sheet No. 234

Fourth Revised Sheet No. 235

Original Sheet No. 235A

Substitute Sixth Revised Sheet No. 249

Substitute First Revised Sheet No. 249A

Third Revised Sheet No. 264

Third Revised Sheet No. 290

MRT states that the tariff sheets, along with other supporting materials, are being filed in compliance with the Commission's February 1, 2002 order in these proceedings, by providing for separate charges for (a) Fuel Use and (b) Lost And Unaccounted For Gas (LUFG). MRT states that as a result of the proposed revisions, an exemption in appropriate circumstances from Fuel Use charges will not have the consequence of triggering a like exemption from LUFG charges.

MRT states that it has served copies of the filing upon all customers and relevant state regulatory commissions.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Magalie R. Salas,
Secretary.

[FR Doc. 02-5985 Filed 3-12-02; 8:45 am]

BILLING CODE 6717-01-P